DEPARTMENT OF COMMERCE

National Oceanic and Atmospheric Administration

Notice of Availability for Public Comment on Proposed Data Management and Communications Standards for U.S. Integrated Ocean Observing System

AGENCY: National Ocean Service (NOS), National Oceanic and Atmospheric Administration (NOAA), U.S. Department of Commerce.

ACTION: Notice of availability; request for comments.

SUMMARY: Notice of availability is hereby given for a 45-day public comment period on “proposed” Data Management and Communications (DMAC) standards for implementation of the U.S. Integrated Ocean Observing System (IOOS). A description and references for currently “proposed” standards are posted at the following URL: https://ioosdmac.fedworx.org. At that Web site, standards are categorized in a three level sequence as either “submitted”, “proposed” or “recommended”. This announcement seeks public comments on those categorized as “proposed”. The public may view any standard using the anonymous guest login provided; however, submission of comments on the “proposed” standards using the website requires registration as provided by the website interface. Public comments are sought as part of the ongoing DMAC standards process adopted by the DMAC Steering Team in May 2006 to manage the review and adoption of standards (including guidance and best practices) in an open, objective, and balanced manner. Suggested standards may be submitted at anytime as this process will run continuously for submission of suggested standards and for public comment on those elevated to “proposed” status. Subsequent comment periods will be announced at approximately six-month intervals. The Web site will remain open continuously and display information about the schedule for future comment periods. All substantive comments received during a review period will be considered by a broadly based, expert panel convened by Ocean.US for that purpose. Possible decisions are to: (1) Advance the standard to “recommended” status; (2) defer for technical modifications, additional testing or comments; or (3) reject as not appropriate for IOOS implementation. Decisions will be posted to that Web site. Any subsequently modifications or additions to the developing set of IOOS standards shall be subjected to public review and comment through this same process.

DATES: Comments on the proposed standards must be received no later than 5 p.m. eastern standard time, on February 29, 2008. For the public unable to access the internet, printed copies of the currently proposed standards can be requested by contacting Ocean.us at the address given below. Written comments in lieu of using the website facility may be submitted via regular mail, e-mail, or FAX to Ocean.US, Attention: DMAC Standards; 1100 Wayne Avenue, Suite 1210; Silver Spring, MD 20910, U.S.A. The FAX number is 301-427-2131. E-mail should be addressed to DMACStandards@ocean.us.

FOR FURTHER INFORMATION CONTACT: For further information about this notice, please contact the Office of Ocean.US, telephone: 843-740-1229 E-mail: DMACStandards@ocean.us.

SUPPLEMENTARY INFORMATION: The Ocean.US Office, operating by interagency agreement under the statutory authority of the National Oceanographic Partnership Program (NOPP, 10 U.S.C. 7901 et seq.), serves as the national agent for integrating ocean observing activities (http://www.ocean.us). Ocean.US is also the focal point for relating U.S. ocean observing system elements to associated international efforts, such as the Global Earth Observing System of Systems (GEOSS) and the Intergovernmental Oceanographic Commission (IOC) sponsored Global Ocean Observing System (GOOS). The U.S. IOOS represents the U.S. contribution to the ocean components of these international partnership efforts. Key to the realization of the U.S. IOOS is the establishment of an integrated DMAC infrastructure. This infrastructure will enable users to discover, retrieve, and use data from Federal and State government, government-sponsored, other public, private, and commercial coastal and ocean observing activities regardless of source or location. In 2005 Ocean.US established an IOOS DMAC Steering Team drawn from government, industry, academia, public, and non-profit communities to: (a) Coordinate and oversee the evolution of DMAC standards; (b) identify and provide recommendations regarding gaps in needed standards; and, (c) help ensure that the DMAC standards process is conducted in an open, objective, and balanced manner. That team adopted a standards process in May 2006 that includes these public comment periods as a critical input to any decisions on a particular standard.

Review to Date of the Proposed Standards

Proposed standards have been reviewed by members of the DMAC Steering Team and its Expert Teams for non-technical and technical criteria. Their designation as ‘proposed’ indicates the standard has potential merit for application in IOOS and should be evaluated further based on actual use in pilot projects and demonstrations and based on public comments on experience using the standard in IOOS applications.

Authority: 10 U.S.C. 7901 et seq.

Dated: January 17, 2008.
Elizabeth R. Scheffler,
Associate Assistant Administrator for Management, Ocean Services and Coastal Zone Management.

[FR Doc. E8-1723 Filed 1-30-08; 8:45 am]

BILLING CODE 3510-22-P